DEPARTMENT OF AGRICULTURE

Forest Service

[OMB No. 0596-0189]

Information Collection; Understanding Value Trade-Offs Regarding Fire Hazard Reduction Programs in the Wildland-Urban Interface

AGENCY: Forest Service, USDA.

ACTION: Notice; request for comment.

SUMMARY: In accordance with the Paperwork Reduction Act of 1995, the Forest Service is seeking comments from all interested individuals and organizations on the renewal of a currently approved information collection, Understanding Value Trade-offs regarding Fire Hazard Reduction Programs in the Wildland-Urban Interface.

DATES: Comments must be received in writing on or before January 24, 2022 to be assured of consideration. Comments received after that date will be considered to the extent practicable.

ADDRESSES: Comments concerning this notice should be addressed to José Sánchez, USDA Forest Service, Pacific Southwest Research Station, 4955 Canyon Crest Drive, Riverside, California 92507. Comments may also be submitted via facsimile to 951-680-1501, or by email to jose.sanchez2@usda.gov.

The public may inspect comments received at the Pacific Southwest Research Station, during normal business hours. Visitors are encouraged to call ahead to facilitate entry to the building at 951-680-1560.

FOR FURTHER INFORMATION CONTACT: José Sánchez, by phone at 951-680-1560. Individuals who use telecommunication devices for the deaf (TDD) may call the Federal Relay Service (FRS) at 1-800-877-8339 twenty-four hours a day, every day of the year, including holidays.

SUPPLEMENTARY INFORMATION: Title: Understanding Value Trade-offs Regarding Fire Hazard Reduction Programs in the Wildland-Urban Interface.

OMB Number: 0596-0189.

Expiration Date of Approval: February 28, 2022.

Type of Request: Renewal.

Abstract: Forest Service and university researchers will collect information from members of the public via a brief phone questionnaire followed by the respondent's choice of a mail questionnaire or an online questionnaire to help forest and fire managers understand value trade-offs regarding fire hazard reduction programs in the wildland-urban interface. Researchers will evaluate the responses of Florida, New Mexico, Oregon, and Texas residents to different scenarios related to fire-hazard reduction programs, determine how effective residents think the programs are, and calculate how much residents would be willing to pay to implement the alternatives presented to them. This information will help researchers provide better information to natural resource, forest, and fire managers when they are contemplating the type of fire-hazard reduction program to implement to achieve forestland management planning objectives.

A random sample of residents of Florida, New Mexico, Oregon, and Texas will be contacted via random-digit dialed telephone calls and asked to participate in the research study. If they are willing to participate in the study, they will select to receive an online or paper questionnaire and will provide the appropriate address. Though different forms, these questionnaires have the same set of questions. In this initial call, we will also ask those willing to participate a brief set of questions to determine pre-existing knowledge of fuels reduction treatments. After completion of the mail or online questionnaire, no further contact with the participants will occur.

A university research-survey center will collect the information for the mail and online questionnaires. A Forest Service researcher and collaborators at a cooperating university will analyze the data collected. Researchers are experienced in applied economic non-market valuation research and survey research methods.

The Forest Service, Bureau of Land Management, Bureau of Indian Affairs, National Park Service, Fish and Wildlife Service, as well as many state agencies with fire protection responsibilities will benefit from this information collection. At present, many of these agencies with fire protection responsibilities continue an ambitious and costly fuels reduction program for fire risk reduction and will benefit from public opinion on which treatments are most effective or desirable.

Estimate of Annual Burden per Respondent: 40 minutes.

Type of Respondents: Members of the public.

Estimated Annual Number of Respondents: 1,675.

Estimated Annual Number of Responses per Respondent: 1.

Estimated Total Annual Burden on Respondents: 690 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Alexander L. Friend,
Deputy Chief, Research & Development.

[FR Doc. 2021-25636 Filed 11-23-21; 8:45 am]

BILLING CODE 3411-15-P